OFFICE OF PERSONNEL MANAGEMENT

Submission for Review: Reinstatement of a Previously Approved Collection With Revisions, OPM 1300 (Annual Presidential Management Fellows (PMF) Application)

AGENCY: Office of Personnel Management.

ACTION: 30-Day notice and request for comments.

SUMMARY: The Office of Personnel Management (OPM) offers the general public and other Federal agencies the opportunity to comment on the following proposed information collection: (ICR) 3206-0082, OPM 1300 (Annual PMF Application). As required by the Paperwork Reduction Act of 1995, as amended by the Clinger-Cohen Act, OPM is soliciting comments for this collection.

DATES: Comments are encouraged and will be accepted until September 5, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: PMF Program Office at pmf@opm.gov or 202-606-1040. Formal requests for additional plans and instruments must be requested in writing.

SUPPLEMENTARY INFORMATION: The 60-day notice for this information collection was published in the Federal Register on April 20, 2023, at 80 FR 24454. No comments specific to this submission were received during the 60-day public comment period. The purpose of this notice is to allow an additional 30 days for public comments on the administration of the annual PMF application. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Authority: 5 CFR 362, Executive Order 13562 of December 27, 2010.

Title: OPM 1300, Annual PMF Application.

OMB Number: 3206-0082.

Frequency: Annually.

Affected Public: Current and Recent Graduates.

Number of Respondents: 7,000.

Estimated Time per Respondent: 30 minutes.

Total Burden Hours: 3,500 hours.

U.S. Office of Personnel Management.
Kayyonne Marston,
Federal Register Liaison.

[FR Doc. 2023-16490 Filed 8-2-23; 8:45 am]

BILLING CODE 6325-43-P